DEPARTMENT OF TRANSPORTATION

Federal Aviation Administration

14 CFR Part 39

[Docket No. FAA-2012-0296; Directorate Identifier 2010-NM-106-AD; Amendment 39-17000; AD 2012-06-19]

RIN 2120-AA64

Airworthiness Directives; Airbus Airplanes

AGENCY: Federal Aviation Administration (FAA), Department of Transportation (DOT).

ACTION: Final rule; request for comments.

SUMMARY: We are adopting a new airworthiness directive (AD) for certain Airbus Model A330-201, -202, -203, -223, -243, -301, -302, -303, -321, -322, -323, -341, -342, and -343 airplanes; and Model A340-200 and -300 series airplanes. This AD requires repetitive inspections of the main fitting and sliding tube of the nose landing gear (NLG) for defects, damage, and cracks, and corrective actions if necessary. This AD was prompted by reports of a cracked main fitting and sliding tube during overhaul of NLGs. We are issuing this AD to detect and correct cracks, defects, or damage of the main fitting and sliding tube of the NLG, which could result in failure of the main fitting or sliding tube, and consequent NLG collapse.

DATES: This AD becomes effective April 30, 2012.

The Director of the Federal Register approved the incorporation by reference of certain publications listed in the AD as of April 30, 2012.

We must receive comments on this AD by May 29, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Discussion

The European Aviation Safety Agency (EASA), which is the Technical Agent for the Member States of the European Community, has issued EASA Airworthiness Directive 2010-0034, dated March 5, 2010, corrected March 8, 2010 (referred to after this as “the MCAI”), to correct an unsafe condition for the specified products. The MCAI states:

During the overhaul of two different Nose Landing Gears (NLG), cracks were found on the main fitting of one and the sliding tube of the other. Investigations concluded that the cracks initiated as a result of residual stress in the parts following damage due to impact during towing incidents.

A subsequent review of the reported incidents has led to conclude that an inspection of the main fitting and sliding tube is required on those NLG that have sustained impacts as result of towing incidents.

The failure of the main fitting or sliding tube could lead to NLG collapse.

To prevent the above unsafe condition, this [EASA] AD requires a one-time [detailed] inspection followed by repetitive inspections of the main fitting and sliding tube of the NLG serial numbers listed in the Applicability section of this [EASA] AD:

—One time Magnetic Particle Inspection (MPI) of the affected areas to detect any crack,

—Repetitive Detailed Visual Inspections (DVI) of the affected areas to detect any damage of the surface protections or corrosion.

This [EASA] AD also requires the accomplishment of the associated corrective actions, as necessary.

* * * * *

Required corrective actions include removing the labels if there is evidence of sealant damage or moisture ingress behind the labels. If surface treatment damage is found, the required actions are removing the paint and cadmium prior to the MPI, removing any surface defects, flap peening and replacing protective coatings, and replacing cracked parts with serviceable parts. You may obtain further information by examining the MCAI in the AD docket.

Relevant Service Information

Airbus has issued Mandatory Service Bulletin A330-32-3233, dated October 22, 2009 (for Model A330 airplanes); and Mandatory Service Bulletin A340-32-4275, dated October 22, 2009 (for Model A340 airplanes). The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no products of this type currently registered in the United States. However, this rule is necessary to ensure that the described unsafe condition is addressed if any of these products are placed on the U.S. Register in the future.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2012-0296; Directorate Identifier 2010-NM-106-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-06-19 Airbus: Amendment 39-17000. Docket No. FAA-2012-0296; Directorate Identifier 2010-NM-106-AD.

(a) Effective Date

This airworthiness directive (AD) becomes effective April 30, 2012.

(b) Affected ADs

None.

(c) Applicability

This AD applies to the airplanes identified in paragraphs (c)(1) and (c)(2) of this AD, certificated in any category, all serial numbers, if fitted with the nose landing gear (NLG) identified in table 1 of this AD.

(1) Airbus Model A330-201, -202, -203, -223, -243, -301, -302, -303, -321, -322, -323, -341, -342, and -343 airplanes.

(2) Airbus Model A340-211, -212, -213, -311, -312, and -313 airplanes.

Table 1—Applicable NLG and Serial Numbers
Part No. | Serial No.
D23285200 | B2
D23285101-7 | B58
D23285101-10 | B75
D23581100-1 | B124
D23581100-1 | B159
D23581100-7 | B386
D23581100-7 | B398
D23581100-7 | B400
D23581100-7 | B403

(d) Subject

Air Transport Association (ATA) of America Code 32: Landing Gear.

(e) Reason

This AD was prompted by reports of a cracked main fitting and sliding tube during overhaul of NLGs. We are issuing this AD to detect and correct cracks, defects, or damage of the main fitting and sliding tube of the NLG, which could result in failure of the main fitting or sliding tube, and consequent NLG collapse.

(f) Compliance

You are responsible for having the actions required by this AD performed within the compliance times specified, unless the actions have already been done.

(g) Detailed Inspection and Corrective Actions

Within 900 flight hours after the effective date of this AD: Do a detailed inspection of the NLG main fitting and sliding tube for any cracks, defects, and damage of the paint or surface protection, including paint removal and cracking of the surface treatment. Before further flight after doing the detailed inspection of the NLG, remove the labels, paint, surface protection coatings, and cadmium from the NLG main fitting; do a detailed inspection for any damage to the surface that will impair the magnetic particle inspection (MPI); and, if any defects are found, before further flight remove any defects by polishing. Do all actions specified in paragraph (g) of this AD in accordance with the Accomplishment Instructions of Airbus Mandatory Service Bulletin A330-32-3233, dated October 22, 2009 (for Model A330 airplanes); or Airbus Mandatory Service Bulletin A340-32-4275, dated October 22, 2009 (for Model A340 airplanes).

(h) Magnetic Particle Inspection

Before further flight after doing the actions required in paragraph (g) of this AD: Do an MPI for cracking of the NLG main fitting and sliding tube, in accordance with the Accomplishment Instructions of Airbus Mandatory Service Bulletin A330-32-3233, dated October 22, 2009 (for Model A330 airplanes); or Airbus Mandatory Service Bulletin A340-32-4275, dated October 22, 2009 (for Model A340 airplanes).

(1) If no crack is detected during the MPI required by paragraph (h) of this AD: Before further flight, flap peen the inspected area where the paint and cadmium has been removed, and replace the protective coatings, in accordance with the Accomplishment Instructions of Airbus Mandatory Service Bulletin A330-32-3233, dated October 22, 2009 (for Model A330 airplanes); or Airbus Mandatory Service Bulletin A340-32-4275, dated October 22, 2009 (for Model A340 airplanes).

(2) If any crack is detected during the MPI required by paragraph (h) of this AD: Before further flight, replace the damaged part with a new or serviceable part, in accordance with the Accomplishment Instructions of Airbus Mandatory Service Bulletin A330-32-3233, dated October 22, 2009 (for Model A330 airplanes); or Airbus Mandatory Service Bulletin A340-32-4275, dated October 22, 2009 (for Model A340 airplanes).

(i) Repetitive Inspections

Within 900 flight hours after accomplishing the actions in paragraphs (g) and (h) of this AD: Do a detailed inspection of the surface treatment of the NLG main fitting and sliding tube for any cracks, defects, and damage of the paint or surface protection, including paint removal and cracking, in accordance with the Accomplishment Instructions of Airbus Mandatory Service Bulletin A330-32-3233, dated October 22, 2009 (for Model A330 airplanes); or Airbus Mandatory Service Bulletin A340-32-4275, dated October 22, 2009 (for Model A340 airplanes).

(1) If no crack, defect, or damage is detected during the detailed inspection required by paragraph (i) of this AD: Repeat the inspection thereafter at intervals not to exceed 900 flight hours.

(2) If any crack, defect, or damage is detected during the detailed inspection required by paragraph (i) of this AD: Before further flight, inspect for damage to the label surface and around the labels for signs of sealant damage and moisture ingress behind labels; do a detailed inspection for any damage to the surface that will impair the MPI; and, if any defects are found, remove any defects by polishing, and do an MPI for cracking of the NLG main fitting and sliding tube. Do all actions specified in paragraph (i)(2) of this AD in accordance with the Accomplishment Instructions of Airbus Mandatory Service Bulletin A330-32-3233, dated October 22, 2009 (for Model A330 airplanes); or Airbus Mandatory Service Bulletin A340-32-4275, dated October 22, 2009 (for Model A340 airplanes).

(i) If no crack is detected during the MPI required by paragraph (i)(2) of this AD: Before further flight, flap peen the inspected area where the paint and cadmium has been removed, and replace the protective coatings, in accordance with the Accomplishment Instructions of Airbus Mandatory Service Bulletin A330-32-3233, dated October 22, 2009 (for Model A330 airplanes); or Airbus Mandatory Service Bulletin A340-32-4275, dated October 22, 2009 (for Model A340 airplanes).

(ii) If any crack is detected during the MPI required by paragraph (i)(2) of this AD: Before further flight, replace the damaged part with a new or serviceable part, in accordance with the Accomplishment Instructions of Airbus Mandatory Service Bulletin A330-32-3233, dated October 22, 2009 (for Model A330 airplanes); or Airbus Mandatory Service Bulletin A340-32-4275, dated October 22, 2009 (for Model A340 airplanes). Repeat the inspection required by paragraph (i) of this AD thereafter at intervals not to exceed 900 flight hours.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to Mandatory Continuing Airworthiness Information (MCAI) European Aviation Safety Agency (EASA) Airworthiness Directive 2010-0034, dated March 5, 2010, corrected March 8, 2010, and the following service information, for related information.

(1) Airbus Mandatory Service Bulletin A330-32-3233, dated October 22, 2009.

(2) Airbus Mandatory Service Bulletin A340-32-4275, dated October 22, 2009.

(l) Material Incorporated by Reference

(1) You must use the following service information to do the actions required by this AD, unless the AD specifies otherwise. The Director of the Federal Register approved the incorporation by reference (IBR) of the following service information under 5 U.S.C. 552(a) and 1 CFR part 51:

(i) Airbus Mandatory Service Bulletin A330-32-3233, dated October 22, 2009.

(ii) Airbus Mandatory Service Bulletin A340-32-4275, dated October 22, 2009.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on March 15, 2012.
John P. Piccola,
Acting Manager, Transport Airplane Directorate, Aircraft Certification Service.

[FR Doc. 2012-7183 Filed 4-12-12; 8:45 am]

BILLING CODE 4910-13-P